DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[1/21/2010 through 2/22/2010]
Firm | Address | Date accepted for filing | Products
VR Industries, Inc | 333 Strawberry Field Road, Warwick, RI 02886 | 2/2/2010 | VR Industries is an electronic contract manufacturer that assembles proprietary products for its customers. The production steps involved, utilize a variety of manual and automated assembly soldering processes as well as test procedures required to insure the integrity of the assemblies. The primary materials
Action Publishing, Inc | 2415 Blue Heron Road, Grand Junction, CO 81505 | 2/12/2010 | The company produces custom notebooks and planners for schools. The planners are designed, produced, customized, and printed by Action Publishing, Inc., Grand Junction, CO.
Bells Powder Coating Inc | 500 John Dietsch Blvd., N., Attleboro, MA 02763 | 2/12/2010 | Powder coating for a variety of industries.
C&D Lumber Co | 1182 Pruner Rd, P.O. Box, Riddle, OR 97469 | 2/16/2010 | C&D Lumber produced Port Oxford and incense cedar wood, and Douglas Fir products, shop products, and dimension lumber products.
Maine Woods Company, LLC | P.O. Box 111, 92 Fish Lake, Portage Lake, ME 04768 | 2/16/2010 | Maine Woods manufactures dry hardwood lumber, from hardwood logs, for five specific end uses in furniture, molding, cabinets, flooring and cants.
Venango Steel, Inc | 1655 Pittsburgh Road, Franklin, PA 16323 | 2/16/2010 | Venango Steel is a steel fabricator and manufactures parts for structures such as buildings and bridges. We also perform industrial weldments.
Apple Archery Products LLC | 60 Leigh Drive, York, PA 17406 | 2/17/2010 | Apple Archery manufactures archery repair tools and equipment.
Optimax Systems, Inc | 6367 Dean Parkway, Ontario, NY 14519-8939 | 2/17/2010 | Fabrication Precision Optics.
River Street Metal Finishings, Inc | 35 Johnson Lane, Braintree, MA 02184 | 2/18/2010 | Finishing Agents, Dye Carriers, Nes for use in textile, paper, leather industries.
Christen Carter Inc. d/b/a Busy Beaver Button Co | 3279 W. Armitage, Chicago, IL 60647 | 2/22/2010 | Custom pin-back buttons.
Columbia Pipe & Supply Co | 1120 W. Pershing Road, Chicago, IL 60609 | 2/22/2010 | Industrial pipe/valve/fittings, plumbing equipment and supplies, HVAC/Hydronic Equipment and supplies, automated valves and process specialties, pipe hangers and supports.
Hillside Jetty Pelagic, LLC | 1532 NW 56th Street, Seattle, WA 98107 | 2/22/2010 | Marketer/Broker of seafood including salmon, sole, pollock, etc. Services include all marketing activities related to selling seafood products.
Larkin Industries, Inc | 2020 Energy Park Drive, St. Paul, MN 55108 | 2/22/2010 | The company is a provider of print finishing services for the paper industry. The firm provides foil stamping, embossing, die-cutting, hologram, folding, gluing, packaging, taping and shrink wrapping services for the paper industry.
T.R.A. Industries, Inc. d/b/a Huntwood | 23800 E. Appleway, Liberty Lake, WA 99019 | 2/22/2010 | Huntwood Industries is a manufacturer of custom kitchen and bath cabinets, as well as commercial cabinetry and office furniture, with products produced by a combination of purchased raw materials.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the procedures set forth in Section 315.9 of EDA's final rule (71 FR 56704) for procedures for requesting a public hearing. The Catalog of Federal Domestic Assistance official program number and title of the program under which these petitions are submitted is 11.313, Trade Adjustment Assistance.

Dated: February 22, 2010.
Bryan Borlik,
Program Director.

[FR Doc. 2010-3962 Filed 2-25-10; 8:45 am]

BILLING CODE 3510-24-P